DEPARTMENT OF HEALTH AND HUMAN SERVICES

Centers for Disease Control and Prevention

[60Day-20-20ML; Docket No. CDC-2020-0096]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled “Cruise Operator COVID-19 Response Plans,” which will provide CDC with the ability require cruise ship operators to submit plans outlining their response procedures for preventing the spread of COVID-19 onboard, and for preventing the use of scarce U.S. domestic resources in response to COVID-19 cases originating on cruise ships.

DATES: CDC must receive written comments on or before October 27, 2020.

ADDRESSES: You may submit comments, identified by Docket No. CDC-2019-0096 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, of the Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Cruise Operator COVID-19 Response Plans—New—National Center for Emerging Zoonotic and Infectious Diseases (NCEZID), Centers for Disease Control and Prevention (CDC)

Background and Brief Description

Recent CDC actions in response to COVID onboard maritime vessels has shown that cruise ship travel markedly increases the risk and impact of the COVID-19 disease outbreak within the United States. If unrestricted cruise ship passenger operations are permitted to resume after the March 14, 2020 No Sail Order, infected and exposed cruise ship cases would place healthcare workers at substantial increased risk. Specifically, these cases would divert medical resources away from persons with other medical problems and other COVID-19 cases, consuming precious diagnostics, therapeutics, and protective equipment. Ongoing concerns with cruise ship transmission would further draw valuable resources away from the immense Federal, state, and local effort to contain and mitigate the spread of COVID-19. Further, the current ongoing non-passenger operation of cruise ships has not sufficiently abated the public health concern, as ship crews become sick and require medical care drawing on otherwise engaged Federal, state, and local resources. As operators of non-U.S. flagged vessels sailing in international waters, it is imperative that the cruise ship industry and cruise lines themselves take responsibility for the care of their crew and do not further tax limited U.S. resources during a public health emergency.

CDC is therefore implementing a requirement within an extended No Sail Order that obligates cruise operators to develop and implement a plan that adequately prevents, mitigates, and responds to the spread of COVID-19 on board cruise ships and ensures that any disembarkation of passengers or crew is conducted in such a way as to not result in further spread of COVID-19. An appropriate plan shall not significantly burden U.S. government operations or the operations of any state or local government, including the U.S. healthcare system. The cruise ship operator shall further ensure that the plan is consistent with CDC recommendations and guidance for any public health actions related to COVID-19. As a condition of the granting of controlled free pratique to continue to engage in any cruise ship operations in any international, interstate, or intrastate waterways subject to the jurisdiction of the United States, the cruise ship operator shall present the plan, upon request, to U.S. Coast Guard and HHS/CDC personnel.

Within these plans are notification requirements that obligate cruise ship operators to provide CDC and local health departments in the follow circumstances:

• Disembarking U.S. residents who plan to leave the ships and travel by private transport

• Disembarking crew to the United States for repatriation via non-commercial travel to home countries

• Crew transfers for purposes such as maintaining Minimum Safe Manning standards

In addition, cruise ship operators can choose to submit an attestation statement to CDC attesting that their ship is free of COVID-19. If this is statement is accepted, cruise ship operators have the option to repatriate their crew via commercial travel.

There are no costs to respondents other than their time to develop and submit the plan and the required notifications to CDC, U.S. Coast Guard, and the local or state health authority, as directed.

Estimated Annualized Burden Hours
Respondent | Form | Number of respondents | Number of responses per respondent | Average burden per response (in minutes) | Total burden hours
Cruise ship operator | COVID-19 Response Plan (no form) | 100 | 1 | 2,400/60 | 4,000
Cruise ship operator | 72-hour notification to CDC of disembarkation or U.S. residents for private travel | 100 | 5 | 5/60 | 42
Cruise ship operator | 72-hour notification to state/local health department of disembarkation for crew repatriation | 100 | 2 | 5/60 | 17
Cruise ship operator | 72-hour notification for crew transfers | 100 | 5 | 5/60 | 42
Cruise ship operator | Attestation statement of COVID-19 free ship (for repatriating crew via commercial travel) | 100 | 1 | 20/60 | 33
Total |  |  |  |  | 4,134

Jeffrey M. Zirger,
Lead, Information Collection Review Office, Office of Scientific Integrity, Office of Science, Centers for Disease Control and Prevention.

[FR Doc. 2020-19010 Filed 8-27-20; 8:45 am]

BILLING CODE 4163-18-P